DEPARTMENT OF COMMERCE

National Oceanic and Atmospheric Administration

RIN 0648-XA995

Pacific Fishery Management Council; Public Meeting

AGENCY: National Marine Fisheries Service (NMFS), National Oceanic and Atmospheric Administration (NOAA), Commerce.

ACTION: Notice of public meeting.

SUMMARY: The Pacific Fishery Management Council (Pacific Council) will hold a meeting, via conference call, of its Coastal Pelagic Species Management Team (CPSMT) and Coastal Pelagic Species Advisory subpanel (CPSAS). The meeting is open to the public, via a public listening station at the Pacific Council offices.

DATES: The conference call will be held Tuesday, February 28, 2012, from 10:30 a.m. to 12 p.m. Pacific Time.

ADDRESSES: A listening station will be available at the Pacific Council offices. 7700 NE Ambassador Place, Suite 101, Portland, OR 97220.

FOR FURTHER INFORMATION CONTACT: Kerry Griffin, Staff Officer; telephone: (503) 820-2280.

SUPPLEMENTARY INFORMATION: The purpose of the joint conference call is to consider any CPS-related fisheries research proposals that will require an Exempted Fishing Permit (EFP) from NMFS. At its March meeting, the Pacific Council will consider adopting for public review any proposals that are submitted. The CPSMT and CPSAS will discuss any EFP proposals, and may develop statements to be included in the March Pacific Council meeting record. In addition, two terms of reference (TOR) documents, guiding methodology reviews and stock assessment reviews, will be considered. Those two documents are newly merged versions of existing TORs, intended to guide both groundfish and CPS review procedures. Both TORs will be considered at the March Pacific Council meeting.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Mr. Kris Kleinschmidt at (503) 820-2280 at least 5 days prior to the meeting date.

Dated: February 7, 2012.
Tracey L. Thompson,
Acting Director, Office of Sustainable Fisheries, National Marine Fisheries Service.

[FR Doc. 2012-3138 Filed 2-9-12; 8:45 am]

BILLING CODE 3510-22-P